DEPARTMENT OF THE INTERIOR

Fish and Wildlife Service

Issuance of Permit for Marine Mammals

On October 19, 2000, a notice was published in the Federal Register, Vol. 65, No. 203, Page 62747, that an application had been filed with the Fish and Wildlife Service by U.S.G.S. Biological Resources Division, Santa Cruz, CA, for an amended permit (PRT-672624) to take Southern sea otters (Enhydra lutris nereis) for scientific research.

Notice is hereby given that on February 2, 2001, as authorized by the provisions of the Marine Mammal Protection Act of 1972, as amended (16 U.S.C. 1361 et seq.) the Fish and Wildlife Service authorized the requested permit subject to certain conditions set forth therein.

On March 25, 2001, a notice was published in the Federal Register, Vol. 64 , No. 57, Page 14460, that an application had been filed with the Fish and Wildlife Service by John R. Garland for a permit (PRT-008969) to import one polar bear (Ursus maritimus) trophy taken from the Lancaster Sound population, Canada for personal use.

Notice is hereby given that on January 31, 2001, as authorized by the provisions of the Marine Mammal Protection Act of 1972, as amended (16 U.S.C. 1361 et seq.) the Fish and Wildlife Service authorized the requested permit subject to certain conditions set forth therein.

On December 7, 2000, a notice was published in the Federal Register, Vol. 65 , No. 236, Page 76662, that an application had been filed with the Fish and Wildlife Service by Bryce W. Smith for a permit (PRT-036348) to import one polar bear (Ursus maritimus) trophy taken from the Southern Beaufort Sea population, Canada for personal use.

Notice is hereby given that on January 23, 2001, as authorized by the provisions of the Marine Mammal Protection Act of 1972, as amended (16 U.S.C. 1361 et seq.) the Fish and Wildlife Service authorized the requested permit subject to certain conditions set forth therein.

Documents and other information submitted for these applications are available for review by any party who submits a written request to the U.S. Fish and Wildlife Service, Division of Management Authority, 4401 North Fairfax Drive, Room 700, Arlington, Virginia 22203. Phone (703) 358-2104 or Fax (703) 358-2281.

Dated: February 12, 2001.
Anna Barry,
Branch of Permits, Division of Management Authority.

[FR Doc. 01-3937 Filed 3-12-01; 8:45 am]

BILLING CODE 4310-55-P